NATIONAL SCIENCE FOUNDATION

Proposal Review Panel for Physics; Notice of Meeting

In accordance with the Federal Advisory Committee Act (Pub. L. 92-463, as amended), the National Science Foundation announces the following meeting.

Name: Rutgers University Site Visit (1208).

Date and Time: Tuesday, October 27, 2009; 8 a.m.-5 p.m. Wednesday, October 28, 2009; 8 a.m.-1 p.m.

Place: Rutgers University, Piscataway, NJ.

Type of Meeting: Partially Closed.

Contact Person: Dr. James Reidy, Program Director for Elementary Particle Physics, National Science Foundation, 4201 Wilson Blvd., Arlington, VA 22230. Telephone: (703) 292-7392.

Purpose of Meeting: To provide an evaluation concerning the proposal submitted to the National Science Foundation.

Agenda:

Tuesday, October, 27, 2009

Open: 0800-0930—Orientation, Introduction of Panel, Welcome; 0930-1145—Tevatron presentations.

Closed: 1145-0100—Meeting with the Department Chair, Dean, and Students; 0100-0130—Executive Session.

Open: 0130-0230—CMS—M&O/PLT presentations; 0245-0300—Computing and Networks; 0315-0415—CMS and Facilities Tour.

Closed: 0415-0600—Executive Session.

Wednesday, October 27, 2009

Open: 0745-1015—CMS Physics Presentations.

Closed: 1015-0100—Executive Session.

Reason for Closing: The proposal contains proprietary or confidential material, including technical information on personnel. These matters are exempt under 5 U.S.C. 552b(c)(2)(4) and (6) of the Government in the Sunshine Act.

Dated: October 9, 2009.
Susanne Bolton,
Committee Management Officer.

[FR Doc. E9-24817 Filed 10-14-09; 8:45 am]

BILLING CODE 7555-01-P